DEPARTMENT OF TRANSPORTATION

Office of the Secretary

Notice of Applications for Certificates of Public Convenience and Necessity and Foreign Air Carrier Permits Filed Under Subpart B (Formerly Subpart Q) During the Week Ending October 10, 2008

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2008-0301.

Date Filed: October 10, 2008.

Due Date for Answers, Conforming Applications, or Motion to Modify Scope:October 31, 2008.

Description: Application of Orbest S.A. (“Orbest”) requesting issuance of a foreign air carrier permit to the full extent authorized by the Air Transport Agreement between the United States and the European Community and the Member States of the European Community to enable Orbest to engage in: (i) Foreign scheduled and charter air transportation of persons, property and mail between any point or points in a Member State of the European Union and any point or points in the United States and beyond or behind coextensive with the rights provided under the US-EC Agreement; (ii) foreign scheduled and charter air transportation of persons, property and mail between any point or points in the United States and any point or points in any member of the European Common Aviation Area; (iii) other charter pursuant to prior approval requirements; and (iv) transportation authorized by any additional route rights made available to European Community carriers in the future. Orbest also requests exemption authority to the extent necessary to enable it to hold out and provide the service described above pending issuance of a foreign air carrier permit.

Renee V. Wright,
Program Manager, Docket Operations, Federal Register Liaison.

[FR Doc. E8-25146 Filed 10-21-08; 8:45 am]

BILLING CODE 4910-9X-P